ENVIRONMENTAL PROTECTION AGENCY

[FRL-9315-4]

Science Advisory Board Staff Office Notification of a Joint Public Meeting of the Chartered Science Advisory Board and Board of Scientific Counselors

AGENCY: Environmental Protection Agency (EPA).

ACTION: Notice of meeting.

SUMMARY: The Environmental Protection Agency (EPA) Science Advisory Board (SAB) Staff Office announces a joint public meeting of the Chartered SAB and Board of Scientific Counselors (BOSC) to hold discussions with EPA regarding the Office of Research and Development's (ORD's) new strategic directions for research.

DATES: The public meeting will be held on Wednesday, June 29, 2011 from 8:30 a.m. to 5:30 p.m. and Thursday, June 30, 2011 from 9 a.m. to 4 p.m. (Eastern Daylight Time).

ADDRESSES: The meeting will be held at the Embassy Suites Hotel, 201 Harrison Oaks Boulevard, Cary, North Carolina 27513.

FOR FURTHER INFORMATION CONTACT: Any member of the public who wishes further information concerning the meeting may contact Dr. Angela Nugent, Designated Federal Officer (DFO), EPA Science Advisory Board (1400R), U.S. Environmental Protection Agency, 1200 Pennsylvania Avenue, NW., Washington, DC 20460; via telephone/voice mail (202) 564-2218, fax (202) 202-565-2098; or e-mail at nugent.angela@epa.gov. General information concerning the SAB can be found on the EPA Web site at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The BOSC was established by the EPA to provide advice, information, and recommendations regarding the ORD research program. The SAB and BOSC are Federal Advisory Committees chartered under the Federal Advisory Committee Act (FACA), 5 U.S.C., App. 2. Pursuant to FACA and EPA policy, notice is hereby given that the SAB and BOSC will hold a joint public meeting to hold discussions with EPA regarding ORD's new strategic directions for research. The SAB and BOSC will comply with the provisions of FACA and all appropriate SAB Staff Office procedural policies.

The Office of Research and Development is restructuring its research programs for FY 2012 to better understand environmental problems and inform sustainable solutions to meet EPA's strategic goals. The restructured research program will be comprised of six program areas: Air, Climate, and Energy; Safe and Sustainable Water Resources; Sustainable and Healthy Communities; Chemical Safety for Sustainability; Human Health Risk Assessment; and Homeland Security.

The Office of Research and Development has requested SAB and BOSC advice at an early stage in the process of defining strategic program directions to help ORD develop research plans to respond to EPA's strategic goals and high priority needs.

Availability of Meeting Materials: A meeting agenda and other materials for the meeting will be placed on the SAB Web site at http://epa.gov/sab.

Procedures for Providing Public Input: Interested members of the public may submit relevant written or oral information for consideration on the topics included in this advisory activity. Oral Statements: To be placed on the public speaker list for the June 29-30, 2011 meeting, interested parties should notify Dr. Angela Nugent, DFO, by e-mail no later than June 22, 2011. Individuals making oral statements will be limited to five minutes per speaker. Written Statements: Written statements for the June 29-30, 2011 meeting should be received in the SAB Staff Office by June 22, 2011, so that the information may be made available to the SAB and BOSC for their consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Nugent at the phone number or e-mail address noted above, preferably at least ten days prior to the meeting, to give EPA as much time as possible to process your request.

Dated: May 27, 2011.
Anthony F. Maciorowski,
Deputy Director, EPA Science Advisory Board Staff Office.

[FR Doc. 2011-13823 Filed 6-2-11; 8:45 am]

BILLING CODE 6560-50-P